SMALL BUSINESS ADMINISTRATION

[Disaster Declaration # 10031]

Kentucky Disaster # KY-00001 Disaster Declaration

AGENCY: U.S. Small Business Administration.

ACTION: Notice.

SUMMARY: This is a Notice of the Presidential declaration of a major disaster for Public Assistance Only for the State of Kentucky (FEMA—1578—DR), dated February 8, 2005.

Incident: Severe Winter Storm and Record Snow.

Incident Period: December 21, 2004, through December 23, 2004.

DATES: Effective Date: February 8, 2005.

Physical Loan Application Deadline Date: April 11, 2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on February 8, 2005, applications for Private Non-Profit organizations that provide essential services of a governmental nature may file disaster loan applications at the address listed above or other locally announced locations.

The following areas have been determined to be adversely affected by the disaster:

Primary Counties

Ballard, Bracken, Breckinridge, Caldwell, Carlisle, Crittenden, Franklin, Fulton, Grant, Grayson, Hancock, Harrison, Hart, Hickman, Hopkins, LaRue, Livingston, Lyon, McLean, Muhlenberg, Nelson, Owen, Pendleton, Robertson, Shelby, Union, and Webster.

The Interest Rates are:

| Percent
Other (including non-profit organizations) with credit available elsewhere | 4.750
Businesses and non-profit organizations without credit available elsewhere | 4.000

The number assigned to this disaster for physical damage is 10031B.

(Catalog of Federal Domestic Assistance Number 59008)
Cheri L. Cannon,
Acting Associate Administrator for Disaster Assistance.

[FR Doc. 05-3816 Filed 2-25-05; 8:45 am]

BILLING CODE 8025-01-P